NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

DATES: Nadene G. Kennedy, Permit Office, Office of Polar Programs, Rm. 755, National Science Foundation, 4201 Wilson Boulevard, Arlington, VA 22230.

SUPPLEMENTARY INFORMATION: On July 27, 2005, the National Science Foundation published a notice in the Federal Register of permit applications received. A permit was issued on August 31, 2005 to:

Rebecca J. Gast, Permit No. 2006-019.

Nadene G. Kennedy,
Permit Officer.

[FR Doc. 05-18574 Filed 9-16-05; 8:45 am]

BILLING CODE 7555-01-M